DEPARTMENT OF THE TREASURY

Office of Foreign Assets Control

Unblocking of 1 Individual Designated Pursuant to Executive Order 13572; Correction

AGENCY: Office of Foreign Assets Control, Treasury.

ACTION: Notice; correction.

SUMMARY: On April 25, 2013, the Treasury Department's Office of Foreign Assets Control (“OFAC”) published a notice in the Federal Register announcing the removal of one individual whose property and interests in property were blocked pursuant to Executive Order 13572 of April 29, 2011, “Blocking Property of Certain Persons with Respect to Human Rights Abuses in Syria” from the list of Specially Designated Nationals and Blocked Persons (“SDN List”). In the notice, however, OFAC incorrectly described the individual's property and interest in property as currently blocked. This notice corrects this error and clarifies that the individual's property and interest in property were no longer blocked as of the effective date set forth in the earlier notice.

DATES: The removal of this individual from the SDN List was effective as of Thursday, April 18, 2013.

FOR FURTHER INFORMATION CONTACT: Assistant Director, Sanctions Compliance & Evaluation, Office of Foreign Assets Control, Department of the Treasury, 1500 Pennsylvania Avenue NW. (Treasury Annex), Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Correction

In the notice published in the Federal Register on April 25, 2013 at 78 FR 24468, OFAC incorrectly described the property and interests in property of an individual removed from the SDN List as “blocked.” The property and interests in property of this individual were no longer blocked as of April 18, 2013 (the effective date set forth in the April 25, 2013, Federal Register notice). Accordingly, OFAC is correcting the notice as follows: on page 24468, in the second column under the heading “Individual,” in the second sentence of the second paragraph, replace the word “blocked” with the word “unblocked” so that the sentence reads, “All property and interests in property of the individual that are in or hereafter come within the United States or the possession or control of United States persons are now unblocked.” The corrected notice is republished below.

Background

On April 29, 2011, the President issued Executive Order 13572, “Blocking Property of Certain Persons with Respect to Human Rights Abuses in Syria,” (the “Order”) pursuant to, inter alia, the International Emergency Economic Powers Act (50 U.S.C. 1701-06). In the Order, the President expanded the scope of the national emergency declared in Executive Order 13338 of May 11, 2004. The Order authorizes the Secretary of the Treasury, in consultation with the Secretary of State, to designate additional persons or entities determined to meet certain criteria set forth in Executive Order 13572. The Department of the Treasury's Office of Foreign Assets Control has determined that this individual should be removed from the SDN List.

The following designation is removed from the SDN List:

Individual

AL-KUZBARI, Nabil Rafik (a.k.a. AL-KOUZBARI, Nabil; a.k.a. AL-KUZBARI, Nabil; a.k.a. AL-KUZBARI, Nabil Rafiq; a.k.a. KUSBARI, Nabil; a.k.a. KUZBARI, Ahmad; a.k.a. KUZBARI, Ahmad Nabil; a.k.a. KUZBARI, Nabil R.); DOB 20 Sep 1936; POB Damascus, Syria; citizen Syria; alt. citizen Austria; Passport P3002721 (Austria) (individual) [SYRIA].

The removal of this individual from the SDN List is effective as of Thursday, April 18, 2013. All property and interests in property of the individual that are in or hereafter come within the United States or the possession or control of United States persons are now unblocked.

Dated: May 7, 2013.
Adam Szubin,
Director, Office of Foreign Assets Control.

[FR Doc. 2013-11405 Filed 5-13-13; 8:45 am]

BILLING CODE 4810-AL-P